FEDERAL COMMUNICATIONS COMMISSION

47 CFR Parts 73 and 74

[MB Docket No. 07-294, MD Docket No. 10-234, FCC 16-1]

Promoting Diversification of Ownership in the Broadcasting Services

AGENCY: Federal Communications Commission.

ACTION: Final rule; announcement of effective date.

SUMMARY: In this document, the Commission announces that the Office of Management and Budget (OMB) approved, for a period of three years, amendments to the Commission's rules and revised filing procedures and changes to FCC Form 323 (Ownership Report for Commercial Broadcast Stations) and FCC Form 323-E (Ownership Report for Noncommercial Broadcast Stations), which the Commission adopted in the Report and Order, Promoting Diversification of Ownership in the Broadcasting Services, FCC 16-1. This document is consistent with the Report and Order, which stated that the Commission would publish a document in the Federal Register announcing OMB approval and the effective date of the rule amendments and revised filing procedures and changes to Forms 323 and 323-E.

DATES: Amendments to 47 CFR 73.3615 and 74.797 and changes to FCC Forms 323 and 323-E, published at 81 FR 19431, April 4, 2016, are effective November 28, 2017.

FOR FURTHER INFORMATION CONTACT: Cathy Williams, Cathy.Williams@fcc.gov, (202) 418-2918.

SUPPLEMENTARY INFORMATION: This document announces that, on November 25, 2016, OMB approved, for a period of three years, amendments to sections 73.3615 and 74.797 of the Commission's rules and revised filing procedures and changes to FCC Form 323 (Ownership Report for Commercial Broadcast Stations) and FCC Form 323-E (Ownership Report for Noncommercial Broadcast Stations), which the Commission adopted in the Report and Order, FCC 16-1, published at 81 FR 19432, April 4, 2016. The OMB Control Numbers are 3060-0010 and 3060-0084. The Commission publishes this document as an announcement of the effective date of the amendments to sections 73.3615 and 74.797 of the Commission's rules and the revised filing procedures and changes to Forms 323 and 323-E. If you have any comments on the burden estimates listed below, or how the Commission can improve the collection and reduce any burdens caused thereby, please contact Cathy Williams, Federal Communications Commission, Room 1-C823, 445 12th Street SW., Washington, DC 20556. Please include the OMB Control Numbers 3060-0010 and 3060-0084 in your correspondence.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval, on November 25, 2016, of amendments to sections 73.3615 and 74.797 of the Commission's rules and revised filing procedures and changes to FCC Form 323 (Ownership Report for Commercial Broadcast Stations) and FCC Form 323-E (Ownership Report for Noncommercial Broadcast Stations).

Under 5 CFR part 1320, an agency may not conduct or sponsor a collection of information unless it displays a current, valid OMB Control Number.

No person shall be subject to any penalty for failing to comply with a collection of information subject to the Paperwork Reduction Act that does not display a current, valid OMB Control Number. The OMB Control Numbers for Forms 323 and 323-E are 3060-0010 and 3060-0084, respectively.

The foregoing notice is required by the Paperwork Reduction Act of 1995, Public Law 104-13, October 1, 1995, and 44 U.S.C. 3507.

The total annual reporting burdens and costs for the respondents are as follows:

OMB Control Number: 3060-0010.

OMB Approval Date: November 25, 2016.

OMB Expiration Date: November 30, 2019.

Title: Ownership Report for Commercial Broadcast Stations, FCC Form 323; Section 73.3615, Ownership Reports; Section 74.797, Biennial Ownership Reports.

Form Number: FCC Form 323.

Respondents: Business or other for-profit entities; not-for-profit institutions; State, Local, or Tribal Governments.

Number of Respondents and Responses: 4,340 respondents; 4,340 responses.

Estimated Time per Response: 1.5 to 2.5 hours.

Frequency of Response: On occasion reporting requirement; biennial reporting requirement.

Obligation to Respond: Required to obtain or retain benefits. Statutory authority for these collections are contained in 47 U.S.C. 151, 152(a), 154(i), 257, 303(r), 307, 309, and 310.

Total Annual Burden: 9,620 hours.

Total Annual Cost: $10,093,220.

Nature and Extent of Confidentiality: FCC Form 323 collects two types of information from respondents: PII in the form of names, addresses, job titles and demographic information; and FCC Registration Numbers (FRNs).

The FCC/MB-1 SORN, which was approved on November 28, 2016 (81 FR 72047), covers the collection, purpose(s), storage, safeguards, and disposal of the PII that individual respondents may submit on Form 323, as required under the Privacy Act of 1974, as amended (5 U.S.C. 552a). The Commission is drafting a privacy statement to inform applicants (respondents) of the Commission's need to obtain the information and the protections that the Commission has in place to protect the PII.

FRNs are assigned to applicants who complete FCC Form 160 (OMB Control No. 3060-0917). Form 160 currently requires applicants for FRNs to provide their Taxpayer Information Number (TIN) and/or Social Security Number (SSN). The FCC's electronic Commission Registration System (CORES) then provides each registrant with a CORES FRN, which identifies the registrant in his/her subsequent dealings with the FCC. This is done to protect the individual's privacy. Form 160 requires applicants for Restricted Use FRNs to provide an alternative set of identifying information that does not include the individual's full SSN: His/her full name, residential address, date of birth, and only the last four digits of his/her SSN. Restricted Use FRNs may be used in lieu of CORES FRNs only on broadcast ownership reports and only for individuals (not entities) reported as attributable interest holders. The Commission maintains a SORN, FCC/OMD-25, Financial Operations Information System (FOIS), to cover the collection, purpose(s), storage, safeguards, and disposal of the PII that individual respondents may submit on Form 160. Form 160 includes a privacy statement to inform applicants (respondents) of the Commission's need to obtain the information and the protections that the FCC has in place to protect the PII.

Privacy Act: The Commission is drafting a Privacy Impact Assessment (PIA) for the personally identifiable information (PII) that is covered by the system of records notice (SORN), FCC/MB-1, Ownership Reports for Commercial and Noncommercial Broadcast Stations. Upon completion of the PIA, it will be posted on the FCC's Web site, as required by the Office of Management and Budget (OMB) Memorandum, M-03-22 (September 22, 2003).

Needs and Uses: On January 20, 2016, the Commission released a Report and Order, Second Report and Order, and Order on Reconsideration in MB Docket Nos. 07-294, 10-103, and MD Docket No. 10-234 (323 and 323-E Order). The 323 and 323-E Order refines the collection of data reported on FCC Form 323, Ownership Report for Commercial Broadcast Stations, and FCC Form 323-E, Ownership Report for Noncommercial Broadcast Stations. Specifically, the 323 and 323-E Order implements a Restricted Use FRN (RUFRN) within the Commission's Registration System (CORES) that individuals may use solely for the purpose of broadcast ownership report filings; eliminates the availability of the Special Use FRN (SUFRN) for broadcast station ownership reports, except in very limited circumstances; prescribes revisions to Form 323-E that conform the reporting requirements for noncommercial educational (NCE) broadcast stations more closely to those for commercial stations; and makes a number of significant changes to the Commission's reporting requirements that reduce the filing burdens on broadcasters, streamline the process, and improve data quality. These enhancements will enable the Commission to obtain data reflecting a more useful, accurate, and thorough assessment of minority and female broadcast station ownership in the United States while reducing certain filing burdens.

Licensees of commercial AM, FM, and full power television broadcast stations, as well as licensees of Class A and Low Power Television stations, must file FCC Form 323 every two years. Form 323 shall be filed by December 1 in all odd-numbered years. On September 1, 2017, the Commission's Media Bureau released an Order in MB Docket No. 07-294, DA 17-813, postponing the opening of the 2017 biennial filing window for the submission of broadcast ownership reports on FCC Forms 323 and 323-E and extending the 2017 filing deadline.

Biennial Ownership Reports shall provide information accurate as of October 1 of the year in which the Report is filed.

In addition, Licensees and Permittees of commercial AM, FM, and full power television stations must file Form 323 following the consummation of a transfer of control or an assignment of a commercial AM, FM, or full power television station license or construction permit; a Permittee of a new commercial AM, FM, or full power television station must file Form 323 within 30 days after the grant of the construction permit; and a Permittee of a new commercial AM, FM, or full power television broadcast station must file Form 323 to update the initial report or to certify the continuing accuracy and completeness of the previously filed report on the date that the Permittee applies for a license to cover the construction permit.

In the case of organizational structures that include holding companies or other forms of indirect ownership, a separate Form 323 must be filed for each entity in the organizational structure that has an attributable interest in the Licensee or Permittee.

OMB Control Number: 3060-0084.

OMB Approval Date: November 25, 2016.

OMB Expiration Date: November 30, 2019.

Title: Ownership Report for Noncommercial Educational Broadcast Stations, FCC Form 323-E; Section 73.3615, Ownership Reports.

Form Number: FCC Form 323-E.

Respondents: Not-for-profit institutions.

Number of Respondents and Responses: 2,636 respondents; 2,636 responses.

Estimated Time per Response: 1 to 1.5 hours.

Frequency of Response: On occasion reporting requirement; biennial reporting requirement.

Obligation to Respond: Required to obtain or retain benefits. Statutory authority for these collections are contained in 47 U.S.C. 151, 152(a), 154(i), 257, 303(r), 307, 308, 309, and 310.

Total Annual Burden: 3,867 hours.

Total Annual Cost: $2,319,900.

Nature and Extent of Confidentiality: FCC Form 323-E collects two types of information from respondents: PII in the form of names, addresses, job titles and demographic information; and FCC Registration Numbers (FRNs).

The FCC/MB-1 SORN, which was approved on November 28, 2016 (81 FR 72047), covers the collection, purpose(s), storage, safeguards, and disposal of the PII that individual respondents may submit on Form 323-E, as required under the Privacy Act of 1974, as amended (5 U.S.C. 552a). The Commission is drafting a privacy statement to inform applicants (respondents) of the Commission's need to obtain the information and the protections that the Commission has in place to protect the PII.

FRNs are assigned to applicants who complete FCC Form 160 (OMB Control No. 3060-0917). Form 160 currently requires applicants for FRNs to provide their Taxpayer Information Number (TIN) and/or Social Security Number (SSN). The FCC's electronic Commission Registration System (CORES) then provides each registrant with a CORES FRN, which identifies the registrant in his/her subsequent dealings with the FCC. This is done to protect the individual's privacy. Form 160 requires applicants for Restricted Use FRNs to provide an alternative set of identifying information that does not include the individual's full SSN: His/her full name, residential address, date of birth, and only the last four digits of his/her SSN. Restricted Use FRNs may be used in lieu of CORES FRNs only on broadcast ownership reports and only for individuals (not entities) reported as attributable interest holders. The Commission maintains a SORN, FCC/OMD-25, Financial Operations Information System (FOIS), to cover the collection, purpose(s), storage, safeguards, and disposal of the PII that individual respondents may submit on Form 160. Form 160 includes a privacy statement to inform applicants (respondents) of the Commission's need to obtain the information and the protections that the FCC has in place to protect the PII.

Privacy Act: The Commission is drafting a Privacy Impact Assessment (PIA) for the personally identifiable information (PII) that is covered by the system of records notice (SORN), FCC/MB-1, Ownership Reports for Commercial and Noncommercial Broadcast Stations. Upon completion of the PIA, it will be posted on the FCC's Web site, as required by the Office of Management and Budget (OMB) Memorandum, M-03-22 (September 22, 2003).

Needs and Uses: On January 20, 2016, the Commission released a Report and Order, Second Report and Order, and Order on Reconsideration in MB Docket Nos. 07-294, 10-103, and MD Docket No. 10-234 (323 and 323-E Order). The 323 and 323-E Order refines the collection of data reported on FCC Form 323, Ownership Report for Commercial Broadcast Stations, and FCC Form 323-E, Ownership Report for Noncommercial Broadcast Stations. Specifically, the 323 and 323-E Order implements a Restricted Use FRN (RUFRN) within the Commission's Registration System (CORES) that individuals may use solely for the purpose of broadcast ownership report filings; eliminates the availability of the Special Use FRN (SUFRN) for broadcast station ownership reports, except in very limited circumstances; prescribes revisions to Form 323-E that conform the reporting requirements for noncommercial educational (NCE) broadcast stations more closely to those for commercial stations; and makes a number of significant changes to the Commission's reporting requirements that reduce the filing burdens on broadcasters, streamline the process, and improve data quality. These enhancements will enable the Commission to obtain data reflecting a more useful, accurate, and thorough assessment of minority and female broadcast station ownership in the United States while reducing certain filing burdens.

On April 21, 2017, the Commission released an Order on Reconsideration in MB Docket No. 07-294 and MD Docket No. 10-23 (323-E Reconsideration Order). The 323-E Reconsideration Order expands the option to use SUFRNs on Form 323-E. This action addresses several petitions for reconsideration of the 323 and 323-E Order and properly balances the Commission's need to improve the integrity and usability of its broadcast ownership data with the concerns raised in the petitions for reconsideration.

Licensees of noncommercial educational AM, FM, and television broadcast stations must file FCC Form 323-E every two years. Pursuant to the new filing procedures adopted in the 323 and 323-E Order, Form 323-E shall be filed by December 1 in all odd-numbered years. On September 1, 2017, the Commission's Media Bureau released an Order in MB Docket No. 07-294, DA 17-813, postponing the opening of the 2017 biennial filing window for the submission of broadcast ownership reports on FCC Forms 323 and 323-E and extending the 2017 filing deadline. Biennial Ownership Reports shall provide information accurate as of October 1 of the year in which the Report is filed.

In addition, Licensees and Permittees of noncommercial educational AM, FM, and television stations must file Form 323-E following the consummation of a transfer of control or an assignment of a noncommercial educational AM, FM, or television station license or construction permit; a Permittee of a new noncommercial educational AM, FM, or television station must file Form 323-E within 30 days after the grant of the construction permit; and a Permittee of a new noncommercial educational AM, FM, or television station must file Form 323-E to update the initial report or to certify the continuing accuracy and completeness of the previously filed report on the date that the Permittee applies for a license to cover the construction permit.

In the case of organizational structures that include holding companies or other forms of indirect ownership, a separate Form 323-E must be filed for each entity in the organizational structure that has an attributable interest in the Licensee or Permittee.

Federal Communications Commission.
Marlene H. Dortch,
Secretary.

[FR Doc. 2017-25408 Filed 11-22-17; 8:45 am]

BILLING CODE 6712-01-P